DEPARTMENT OF THE TREASURY

United States Mint

Notification of Pricing for the 2009 United States Mint Lincoln Coin and Chronicles Set

SUMMARY: The United States Mint is announcing the price of the 2009 United States Mint Lincoln Coin and Chronicles Set. As part of the 2009 Abraham Lincoln Commemorative Silver Dollar Program, the United States Mint is producing a limited edition collectible product capturing the life and legacy of President Abraham Lincoln. This set contains one proof 2009 Abraham Lincoln Commemorative Silver Dollar and four proof 95% copper one-cent coins featuring the four 2009 one-cent coin reverse designs. The slip-covered tri-fold case features a reproduction of a photograph of Abraham Lincoln and a reproduction of the original Gettysburg Address in Lincoln's handwriting. The 2009 United States Mint Lincoln Coin and Chronicles Set will be offered for sale on October 15, 2009, at a price of $55.95 per set.

FOR FURTHER INFORMATION CONTACT: B. B. Craig, Associate Director for Sales and Marketing; United States Mint; 801 9th Street, NW.; Washington, DC 20220; or call 202-354-7500.

Authority: 31 U.S.C. 5111, 5112 & 9701; Public Law 109-285, the Abraham Lincoln Commemorative Coin Act.

Dated: September 30, 2009.
Edmund C. Moy,
Director, United States Mint.

[FR Doc. E9-24062 Filed 10-5-09; 8:45 am]

BILLING CODE 4810-02-P